DEPARTMENT OF THE INTERIOR

National Park Service

[NPS-WASO-NAGPRA-NPS0029193; PPWOCRADN0-PCU00RP14.R50000]

Notice of Inventory Completion: The Wistar Institute, Philadelphia, PA, and the University of Pennsylvania Museum of Archaeology and Anthropology, Philadelphia, PA

AGENCY: National Park Service, Interior.

ACTION: Notice.

SUMMARY: The Wistar Institute and the University of Pennsylvania Museum of Archaeology and Anthropology have completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Pennsylvania Museum of Archaeology and Anthropology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Pennsylvania Museum of Archaeology and Anthropology at the address in this notice by December 27, 2019.

ADDRESSES: Dr. Julian Siggers, University of Pennsylvania Museum of Archaeology and Anthropology, 3260 South Street, Philadelphia, PA 19104-6324, telephone (215) 898-4050.

SUPPLEMENTARY INFORMATION: Notice is here given in accordance with the Native American Graves Protection and Repatriation Act (NAGPRA), 25 U.S.C. 3003, of the completion of an inventory of human remains under the control of the Wistar Institute, Philadelphia, PA, and in the physical custody of the University of Pennsylvania Museum of Archaeology and Anthropology, Philadelphia, PA. The human remains were removed from the Fort Peck Reservation, Valley County, MT.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Pennsylvania Museum of Archaeology and Anthropology professional staff on behalf of the Wistar Institute in consultation with representatives of the Assiniboine and Sioux Tribes of the Fort Peck Indian Reservation, Montana.

History and Description of the Remains

Sometime between July 6 and July 15, 1900, human remains representing, at minimum, two individuals (37946 and 37947) were removed from box graves on the prairie outside of the Fort Peck Indian Reservation in Valley County, MT, by Robert Stewart Culin, Curator of the American and General Ethnology Section of the University of Pennsylvania Museum of Archaeology and Anthropology (1899-1903). Culin was leading a collecting expedition to the American West for the University of Pennsylvania Museum of Archaeology and Anthropology funded by John Wanamaker, a Philadelphia businessman and philanthropist. From 1900 to 1915, the human remains were housed at the University of Pennsylvania Museum of Archaeology and Anthropology. On January 11, 1915, the human remains were donated to the Wistar Institute of Philadelphia (15525 and 15526). The human remains were transferred to the University of Pennsylvania Museum of Archaeology and Anthropology on a long-term loan in 1956 (L-1011-54 and L-1011-211), where they are currently housed. No known individuals were identified. No associated funerary objects are present.

The physical condition of the human remains and the collector's description about the circumstance surrounding their removal indicate that the remains were of relatively recent historical origin at the time of removal. The human remains have been identified as Native American based on the specific cultural and geographic attribution identified in Museum records. Museum documentation and collector records identify the two sets of human remains as “Dakota, Sioux.” The Dakota, Sioux descendants in Montana are represented by the present-day Assiniboine and Sioux Tribes of the Fort Peck Reservation, Montana.

Determinations Made by the Wistar Institute and the University of Pennsylvania Museum of Archaeology and Anthropology

Officials of the Wistar Institute, through its agent the University of Pennsylvania Museum of Archaeology and Anthropology, have determined that:

• Pursuant to 25 U.S.C. 3001(9), the human remains described in this notice represent the physical remains of two individuals of Native American ancestry.

• Pursuant to 25 U.S.C. 3001(2), there is a relationship of shared group identity that can be reasonably traced between the Native American human remains and the Assiniboine and Sioux Tribes of the Fort Peck Indian Reservation, Montana.

Additional Requestors and Disposition

Lineal descendants or representatives of any Indian Tribe or Native Hawaiian organization not identified in this notice that wish to request transfer of control of these human remains should submit a written request with information in support of the request to Dr. Julian Siggers, Williams Director, University of Pennsylvania Museum of Archaeology and Anthropology, 3260 South Street, Philadelphia, PA 19104-6324, telephone (215) 898-4050, by December 27, 2019. After that date, if no additional requestors have come forward, transfer of control of the human remains to the Assiniboine and Sioux Tribes of the Fort Peck Indian Reservation, Montana may proceed.

The Wistar Institute, through its agent the University of Pennsylvania Museum of Archaeology and Anthropology, is responsible for notifying the Assiniboine and Sioux Tribes of the Fort Peck Indian Reservation, Montana that this notice has been published.

Dated: October 24, 2019.
Melanie O'Brien,
Manager, National NAGPRA Program.

[FR Doc. 2019-25733 Filed 11-26-19; 8:45 am]

BILLING CODE 4312-52-P